DEPARTMENT OF TRANSPORTATION

National Highway Traffic Safety Administration

[NHTSA Docket No. NHTSA-2006-26459]

Meeting Notice

AGENCY: National Highway Traffic Safety Administration (NHTSA), DOT.

SUMMARY: NHTSA announces a meeting of the Federal Interagency Committee on Emergency Medical Services to be held in Washington, DC. This notice announces the date, time and location of the meeting, which will be open to the public.

DATES: The meeting will be held on December 8, 2006, from 1:30 p.m. to 3:30 p.m.

ADDRESSES: The meeting will be held at the Federal Aviation Administration (FAA), 800 Independence Avenue, SW., the MacCracken Room, 10th Floor, Washington, DC 20591.

FOR FURTHER INFORMATION CONTACT: Drew Dawson, Director, Office of Emergency Medical Services, National Highway Traffic Safety Administration, 400 Seventh Street, SW. Telephone number (202) 366-9966; E-mail Drew.Dawson@dot.gov.

SUPPLEMENTARY INFORMATION: Section 10202 of the Safe, Accountable, Flexible, Efficient Transportation Equity Act: A Legacy for Users (SAFETEA-LU), Public Law 109-59, required the Secretary of Transportation, the Secretary of Health and Human Services, and the Under Secretary of Homeland Security, acting through the Under Secretary for Emergency Preparedness and Response, to establish a Federal Interagency Committee on Emergency Medical Services (FICEMS). SAFETEA-LU provided that the FICEMS consist of several officials from Federal agencies as well as a State emergency medical services director appointed by the Secretary of Transportation. SAFETEA-LU directed the Administrator of NHTSA, in cooperation with the Administrator of the Health Resources and Services Administration of the Department of Health and Human Services and the Director of the Preparedness Division, Directorate of Emergency Preparedness and Response of the Department of Homeland Security, to provide administrative support to the Interagency Committee, including scheduling meetings, setting agendas, keeping minutes and records, and producing reports.

SAFETEA-LU set forth six purposes of the FICEMS: (A) Ensuring coordination among the Federal agencies involved with State, local, tribal, or regional emergency medical services and 9-1-1 systems; (B) identifying State, local, tribal, or regional emergency medical services and 9-1-1 needs; (C) recommending new or expanded programs, including grant programs, for improving State, local, tribal, or regional emergency medical services and implementing improved emergency medical services communications technologies, including wireless 9-1-1; (D) identifying ways to streamline the process through which Federal agencies support State, local, tribal or regional emergency medical services; (E) assisting State, local, tribal or regional emergency medical services in setting priorities based on identified needs; and (F) advising, consulting and making recommendations on matters relating to the implementation of the coordinated State emergency medical services programs.

This inaugural meeting of the FICEMS will focus on organizational matters (including the selection of the FICEMS chairperson) and opportunities for collaboration among the key Federal agencies involved in emergency medical services.

This meeting will be open to the public. Individuals wishing to register must provide their name, affiliation, phone number, and e-mail address to Drew Dawson by e-mail at Drew.Dawson@dot.gov or by telephone at (202) 366-9966 no later than December 6, 2006. Pre-registration is necessary to comply with security procedures. Picture I.D. must also be provided to enter the FAA Building and it is suggested that visitors arrive 45 minutes early in order to facilitate entry. The Visitor entrance is on the C Street side of the building.

Minutes of the FICEMS Meeting will be available to the public online through the DOT Document Management System (DMS) at: http://dms.dot.gov under the docket number listed at the beginning of this notice.

Issued on: November 27, 2006.
Brian M. McLaughlin,
Senior Associate Administrator for Traffic Injury Control.

[FR Doc. E6-20311 Filed 11-30-06; 8:45 am]

BILLING CODE 4910-59-P